DEPARTMENT OF COMMERCE

International Trade Administration

[A-570-832]

Pure Magnesium From the People's Republic of China: Final Results of Antidumping Duty Administrative Review; 2013-2014

AGENCY: Enforcement and Compliance, International Trade Administration, Department of Commerce.

DATES: Effective Date: May 8, 2015.

SUMMARY: On January 30, 2015, the Department of Commerce (“the Department”) published in the Federal Register the preliminary results of the administrative review of the antidumping duty order on pure magnesium from the People's Republic of China (“PRC”), covering the period May 1, 2013, through April 31, 2014.¹ This review covers one PRC exporter, Tianjin Magnesium International, Co., Ltd. (“TMI”) and Tianjin Magnesium Metal, Co., Ltd. (“TMM”) (collectively “TMI/TMM”). The Department gave interested parties an opportunity to comment on the Preliminary Results, but we received no comments. Hence, these final results are unchanged from the Preliminary Results, and we continue to find that TMI/TMM did not have reviewable entries during the period of review (“POR”).

¹ See Pure Magnesium From the People's Republic of China: Preliminary Results of Antidumping Duty Administrative Review; 2013-2014, 80 FR 5087 (January 30, 2015) (“Preliminary Results”).

FOR FURTHER INFORMATION CONTACT: Brendan Quinn or Erin Begnal, AD/CVD Operations, Office III, Enforcement and Compliance, International Trade Administration, U.S. Department of Commerce, 14th Street and Constitution Avenue NW., Washington, DC 20230; telephone: (202) 482-5848 or (202) 482-1442, respectively.

SUPPLEMENTARY INFORMATION:

Background

On January 30, 2015, the Department published the Preliminary Results of the instant review.² TMI/TMM submitted timely-filed certifications indicating that they had no shipments of subject merchandise to the United States during the POR.³ In addition, in response to the Department's query, U.S. Customs and Border Protection (“CBP”) did not provide any evidence that contradicted TMI/TMM's claims of no shipments.⁴ The Department received no comments from interested parties concerning the results of the CBP query. Therefore, based on TMI/TMM's certification and our analysis of CBP information, we preliminarily determined that TMI/TMM did not have any reviewable entries during the POR.⁵ We invited interested parties to comment on the Preliminary Results.⁶ We received no comments from interested parties.

² Id.

³ See letter from TMM, “Pure Magnesium from the People's Republic of China; A-570-832; Certification of No Sales by Tianjin Magnesium Metal, Co., Ltd.,” dated July 23, 2014; see also letter from TMI, “Pure Magnesium from the People's Republic of China; A-570-832; Certification of No Sales by Tianjin Magnesium International, Co., Ltd.,” dated July 22, 2014.

⁴ See Preliminary Results, 80 FR at 5088.

⁵ Id.

⁶ Id.

The Department conducted this review in accordance with section 751(a)(1)(B) of the Tariff Act of 1930, as amended (“the Act”).

Scope of the Order

Merchandise covered by the order is pure magnesium regardless of chemistry, form or size, unless expressly excluded from the scope of the order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents:

(1) Products that contain at least 99.95% primary magnesium, by weight (generally referred to as “ultra pure” magnesium);

(2) Products that contain less than 99.95% but not less than 99.8% primary magnesium, by weight (generally referred to as “pure” magnesium); and

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: Aluminum, manganese, zinc, silicon, thorium, zirconium and rare earths.

Excluded from the scope of the order are alloy primary magnesium (that meets specifications for alloy magnesium), primary magnesium anodes, granular primary magnesium (including turnings, chips and powder) having a maximum physical dimension (i.e., length or diameter) of one inch or less, secondary magnesium (which has pure primary magnesium content of less than 50% by weight), and remelted magnesium whose pure primary magnesium content is less than 50% by weight.

Pure magnesium products covered by the order are currently classifiable under Harmonized Tariff Schedule of the United States (“HTSUS”) subheadings 8104.11.00, 8104.19.00, 8104.20.00, 8104.30.00, 8104.90.00, 3824.90.11, 3824.90.19 and 9817.00.90. Although the HTSUS subheadings are provided for convenience and customs purposes, the written description of the scope is dispositive.

Final Determination of No Shipments

As explained above, in the Preliminary Results, the Department found that TMI/TMM did not have reviewable entries during the POR.⁷

⁷ See Preliminary Results, 80 FR at 5088.

After issuing the Preliminary Results, the Department received no comments from interested parties, nor has it received any information that would cause it to revisit its preliminary results. Therefore, for these final results, the Department continues to find that TMI/TMM did not have any reviewable entries during the POR.

Assessment Rates

The Department determined, and CBP shall assess, antidumping duties on all appropriate entries of subject merchandise in accordance with the final results of this review.⁸ The Department intends to issue assessment instructions to CBP 15 days after the date of publication of these final results of review.

⁸ See 19 CFR 351.212(b).

Additionally, consistent with the Department's refinement to its assessment practice in NME cases, because the Department determined that TMI/TMM had no shipments of subject merchandise during the POR, any suspended entries that entered under TMI/TMM's antidumping duty case number (i.e., at that exporter's rate) will be liquidated at the PRC-wide rate.⁹

⁹ See Non-Market Economy Antidumping Proceedings: Assessment of Antidumping Duties, 76 FR 65694 (October 24, 2011) (“Assessment Practice Refinement”).

Cash Deposit Requirements

The following cash deposit requirements will be effective for all shipments of subject merchandise entered, or withdrawn from warehouse, for consumption on or after the publication date of this notice of final results of the administrative review, as provided by section 751(a)(2)(C) of the Act: (1) For TMI/TMM, which claimed no shipments, the cash deposit rate will remain unchanged from the rate assigned to TMI/TMM in the most recently completed review of the company; (2) for previously investigated or reviewed PRC and non-PRC exporters who are not under review in this segment of the proceeding but who have separate rates, the cash deposit rate will continue to be the exporter-specific rate published for the most recent period; (3) for all PRC exporters of subject merchandise that have not been found to be entitled to a separate rate, the cash deposit rate will be the PRC-wide rate of 111.73 percent; ¹⁰ and (4) for all non-PRC exporters of subject merchandise which have not received their own rate, the cash deposit rate will be the rate applicable to the PRC exporter(s) that supplied that non-PRC exporter. These deposit requirements, when imposed, shall remain in effect until further notice.

¹⁰ See Pure Magnesium From the People's Republic of China: Final Results of the 2008-2009 Antidumping Duty Administrative Review of the Antidumping Duty Order, 75 FR 80791 (December 23, 2010).

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Order

This notice also serves as a reminder to parties subject to administrative protective order (“APO”) of their responsibility concerning the disposition of proprietary information disclosed under APO in accordance with 19 CFR 351.305(a)(3). Timely written notification of the return or destruction of APO materials, or conversion to judicial protective order, is hereby requested. Failure to comply with the regulations and terms of an APO is a sanctionable violation.

We are issuing and publishing these final results and this notice in accordance with sections 751(a)(1) and 777(i) of the Act.

Dated: April 24, 2015.
Paul Piquado,
Assistant Secretary for Enforcement and Compliance.

[FR Doc. 2015-11217 Filed 5-7-15; 8:45 am]

BILLING CODE 3510-DS-P